INTERNATIONAL TRADE COMMISSION

[Investigation Nos. 701-TA-511 and 731-TA-1246-1247 (Final)]

Certain Crystalline Silicon Photovoltaic Products From China and Taiwan

Determinations

On the basis of the record ¹ developed in the subject investigations, the United States International Trade Commission (“Commission”) determines, pursuant to sections 705(b) and 735(b) of the Tariff Act of 1930 (19 U.S.C. 1671d(b) and 19 U.S.C. 1673d(b)) (“the Act”), that an industry in the United States is materially injured by reason of imports of certain crystalline silicon photovoltaic (“CSPV”) products from China and Taiwan, provided for in subheadings 8541.40.60 (statistical reporting numbers 8541.40.6020 and 8541.40.6030) of the Harmonized Tariff Schedule of the United States, that have been found by the Department of Commerce to be sold in the United States at less than fair value (“LTFV”), and subsidized by the government of China.²

¹ The record is defined in section 207.2(f) of the Commission's Rules of Practice and Procedure (19 CFR 207.2(f)).

² Vice Chairman Dean A. Pinkert and Commissioners Irving A. Williamson, David S. Johanson, and Rhonda K. Schmidtlein voted in the affirmative. Chairman Meredith M. Broadbent voted in the affirmative with respect to CSPV modules from China and Taiwan and in the negative with respect to CSPV cells from Taiwan (CSPV cells from China were not included in the scope of these investigations). Commissioner F. Scott Kieff did not participate in these investigations.

Background

The Commission instituted these investigations effective December 31, 2013, following receipt of petitions filed with the Commission and Commerce by SolarWorld America, Inc., Hillsboro, Oregon. The final phase of the investigations was scheduled by the Commission following notification of preliminary determinations by Commerce that imports of CSPV products from China and Taiwan were dumped within the meaning of 733(b) of the Act (19 U.S.C. 1673b(b)) and were subsidized by the government of China within the meaning of section 703(b) of the Act (19 U.S.C. 1671b(b)). Notice of the scheduling of the final phase of the Commission's investigations and of a public hearing to be held in connection therewith was given by posting copies of the notice in the Office of the Secretary, U.S. International Trade Commission, Washington, DC, and by publishing the notice in the Federal Register on August 25, 2014 (79 FR 50696). The hearing was held in Washington, DC, on December 8, 2014, and all persons who requested the opportunity were permitted to appear in person or by counsel.

The Commission completed and filed its determinations in these investigations on February 5, 2015. The views of the Commission are contained in USITC Publication 4519 (February 2015), entitled Certain Crystalline Silicon Photovoltaic Products from China and Taiwan, Inv. Nos. 701-TA-511 and 731-TA-1246-1247 (Final).

By order of the Commission.
Issued: February 5, 2015.
Lisa R. Barton,
Secretary to the Commission.

[FR Doc. 2015-02709 Filed 2-9-15; 8:45 am]

BILLING CODE 7020-02-P